DEPARTMENT OF ENERGY

Federal Energy Regulatory Commission

[Docket No. RM19-12-000]

Revisions to the Filing Process for Commission Forms; Notice of Extension of Time and Rescheduling of Technical Conference

On December 16, 2019, a notice was issued announcing a staff-led technical conference to be held from February 4 through February 6, 2020, to discuss the draft FERC XBRL Taxonomy and filing processes for implementing the XBRL data standard, pursuant to Order No. 859.¹ The notice also established a comment period, until January 17, 2020, for parties to comment on the draft FERC XBRL Taxonomy using the Yeti review tool or file written comments on issues related to the draft taxonomy or related draft implementation documents.

¹ Revisions to the Filing Process for Commission Forms, 167 FERC 61,241 (2019).

On December 20, 2019, the American Public Power Association, the American Gas Association, the Edison Electric Institute, and the National Rural Electric Cooperative Association (collectively, the Joint Associations) filed a motion requesting a 60-day extension of time to submit comments. Joint Associations state that an extension of time is necessary to prepare comments that will meaningfully inform Commission staff's development of a revised draft FERC XBRL taxonomy because part of the comment period includes the federal holidays, many of the employees who would prepare the comments will be preparing Securities and Exchange Commission filings due in February, and some of the information on which the Commission seeks comment will not have been made available for an adequate time to review.

Upon consideration, notice is hereby given that the date for comments on the draft FERC XBRL Taxonomy or related draft documents in the above-captioned proceeding is extended by 45 days, up to and including March 2, 2020.

The date for the technical conference in this proceeding also is rescheduled to March 24 through March 26, 2020.

Dated: January 13, 2020.
Kimberly D. Bose,
Secretary.

[FR Doc. 2020-00965 Filed 1-21-20; 8:45 am]

BILLING CODE 6717-01-P